DEPARTMENT OF HEALTH AND HUMAN SERVICES

National Institutes of Health

Center for Scientific Review; Amended Notice of Meeting

Notice is hereby given of a change in the meeting of the Center for Scientific Review Special Emphasis Panel, Member Conflict: Mechanisms of neurodevelopment, neurodegeneration, and neural repair, January 29, 2026, 09:00 a.m. to January 29, 2026, 05:00 p.m., National Institutes of Health, Rockledge II, 6701 Rockledge Drive, Bethesda, MD 20892 which was published in the Federal Register on December 05, 2025, 90 FR 56177, Doc No. 2025-22067.

This meeting is being amended to change the date from January 29, 2026, to February 17, 2026. and the panel name to “Topics in neurodevelopment, neurodegeneration, and the blood brain barrier”. The meeting is closed to the public.

Dated: January 23, 2026.
Bruce A. George,
Program Analyst, Office of Federal Advisory Committee Policy.

[FR Doc. 2026-01640 Filed 1-27-26; 8:45 am]

BILLING CODE 4140-01-P